NATIONAL SCIENCE FOUNDATION

Special Emphasis Panel in Polar Programs; Notice of Meeting

In accordance with the Federal Advisory Committee Act (Pub. L. 92-463, as amended), the National Science Foundation announces the following meeting.

Name: Special Emphasis Panel in Polar Programs (1209).

Date and Time: June 21-23, 2000, 8:00 am-5:30 pm.

Place: Business School of the University of Wisconsin, 975 University Avenue, Room 110 of Grainger Hall, Madison, WI 53706.

Type of Meeting: Closed.

Contact Person: Dr. John Lynch, Program Manager, National Science Foundation, 4201 Wilson Blvd, Arlington, VA 22230. (703) 306-1033.

Purpose of Meeting: To provide advice and recommendations concerning “ICECUBE” proposal submitted to NSF for financial support.

Agenda: To review and evaluate “ICECUBE” proposal as part of the selection process for awards.

Reason for Closing: The proposal being reviewed include information of a proprietary or confidential nature, including technical information; financial data, such as salaries and personal information concerning individuals associated with the proposal. These matters are exempt under 5 U.S.C. 552b(c), (4) and (6) of the Government in the Sunshine Act.

Reason for Late Notice: This notice is late due to difficulty in scheduling.

Note: Closed portions are proper under Sunshine Act exemptions cited. The CMO's signature on this Notice is the required determination.

Dated: June 12, 2000.
Karen J. York,
Committee Management Officer.

[FR Doc. 00-15222 Filed 6-15-00; 8:45 am]

BILLING CODE 7555-01-M